DEPARTMENT OF ENERGY

Proposed Agency Information Collection: Security

AGENCY: Bonneville Power Administration, Department of Energy.

ACTION: Notice of information collection; request for comments.

SUMMARY: The Department of Energy (DOE), Bonneville Power Administration (BPA), invites public comment on a collection of information that BPA is developing for submission to the Office of Management and Budget (OMB) pursuant to the Paperwork Reduction Act of 1995.

DATES: Comments regarding this proposed information collection must be received on or before November 19, 2018.

ADDRESSES: Written comments may be sent to Bonneville Power Administration, Attn: Laura McCarthy, Privacy Program, CGC-7, P.O. Box 3621, Portland, OR 97208-3621, or by fax Attn: Laura McCarthy, Privacy Program, CGC-7, at (503) 230-4619, or by email at ljmccarthy@bpa.gov.

FOR FURTHER INFORMATION CONTACT: Requests for additional information or copies of the information collection instrument and instructions should be directed to Attn: Laura McCarthy, Privacy Program, CGC-7, P.O. Box 3621, Portland, OR 97208-3621, or by fax Attn: Laura McCarthy, Privacy Program, CGC-7 at (503) 230-4619, or by email at ljmccarthy@bpa.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: New; (2) Information Collection Request Title: Security; (3) Type of Request: Existing collections without OMB Control Number; (4) Purpose: This information collection is associated with BPA's management and oversight of personnel security and physical security of its facilities. Non-employees, contractors, and the general public complete the following forms: BPA F 5632.01, Security Incident Report; BPA F 5632.08, Unclassified Visits and Assignments—Foreign Nationals Registration (Short Form); BPA F 5632.09, Personal Identity Verification (PIV) Request: Information Sheet for Sponsorship of DOE Security Badge or LSSO; BPA F 5632.11, BPA Visitor(s) Access Request; BPA F 5632.12, Evidence/Property Custody Document; BPA F 5632.18, Crime Witness Telephone Report; BPA F 5632.27, Badge Replacement Form; BPA F 5632.30, Pin Code Request; and BPA F 5632.32, Card Key Access Request. (5) Estimated Number of Respondents: 9,642; (6) Annual Estimated Number of Respondents: 9,642; (7) Annual Estimated Number of Burden Hours: 1,440; (8) Annual Estimated Reporting and Recordkeeping Cost Burden: 0.

Statutory Authority: The Bonneville Project Act, codified at 16 U.S.C. 832; and the following additional authorities:

BPA F 5632.01, Security Incident Report: FERC Order No. 706, sec. 343, pg. 98.

BPA F 5632.08, Unclassified Visits and Assignments—Foreign Nationals Registration (Short Form): E.O. 12333 (December 4, 1981); E.O. 13284 (January 23, 2003); E.O. 13470, (July 30, 2008); FERC Order No. 706 sec. 343, pg. 98.

BPA F 5632.09, Personal Identity Verification (PIV) Request: Information Sheet for Sponsorship of DOE Security Badge or LSSO: E.O. 13467 (April 27, 1953).

E.O. 13488 (January 16, 2009); E.O. 13764, (January 17, 2017); Federal Information Processing Standard Publication 201-2 (FIPS 201-2) and Homeland Security Presidential Directive 12 (HSPD 12).

BPA F 5632.11, BPA Visitor(s) Access Request: 42 U.S.C. 2165; FERC Order No. 706 sec. 343, pg. 98.

BPA F 5632.12, Evidence/Property Custody Document: 42 U.S.C. 2165; FERC Order No. 706 sec. 343, pg. 98.

BPA F 5632.18, Crime Witness Telephone Report: FERC Order No. 706, sec. 343, pg. 98.

BPA F 5632.27, Badge Replacement Form: Federal Information Processing Standard Publication 201-2 (FIPS 201-2) and Homeland Security Presidential Directive 12 (HSPD 12).

BPA F 5632.30, Pin Code Request: Federal Information Processing Standard Publication 201-2 (FIPS 201-2) and Homeland Security Presidential Directive 12 (HSPD 12).

BPA F 5632.32, Card Key Access Request: 42 U.S.C 2165; FERC Order No. 706 sec. 343, pg. 98.

Signed in Portland, Oregon, on September 11, 2018.
Rachel Lynn Hull,
Acting Manager, Information Governance.

[FR Doc. 2018-20242 Filed 9-17-18; 8:45 am]

BILLING CODE 6450-01-P